DEPARTMENT OF AGRICULTURE

Submission for OMB Review; Comment Request

December 6, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; (4) ways to minimize the burden of the collection of information on those who are to respond, including through the use of appropriate automated, electronic, mechanical or other technological collection techniques or other forms of information technology.

Comments regarding this information collection received by January 9, 2017 will be considered. Written comments should be addressed to: Desk Officer for Agriculture, Office of Information and Regulatory Affairs, Office of Management and Budget (OMB), New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Feral Swine Survey.

OMB Control Number: 0535-0256.

Summary of Collection: Authority to collect these data is authorized under 7 U.S.C. 2204(a). Individually identifiable data collected under this authority are governed by Section 1770 of the Food Security Act of 1985, 7 U.S.C. 2276. On February 3, 1999, Executive Order 13112 was signed by President Clinton establishing the National Invasive Species Council. The Executive Order requires that a Council of Departments dealing with invasive species be created. Currently there are 13 Departments and Agencies on the Council. A benchmark survey was conducted in 2015 in 11 States (Alabama, Arkansas, California, Florida, Georgia, Louisiana, North Carolina, Mississippi, Missouri, South Carolina, and Texas). Target population within these states consisted of farm operations who have historically produced one or more of the following crops: Corn, soybeans, wheat, rice, peanuts or sorghum (Texas only).

In 2017, this survey will be conducted in Alabama, Arkansas, California, Florida, Georgia, Louisiana, Mississippi, Missouri, North Carolina, Oklahoma, South Carolina, Tennessee, and Texas, to measure the damage to livestock that is associated with the presence of feral swine. These States have high feral swine densities and a significant presence of cattle, hogs, sheep and/or goats.

Need and Use of the Information: The 2017 proposed initial survey will be used to create a benchmark to develop national and State estimates of the monetary loss of feral swine damage to agriculture, animal health, and property to producers of cattle, hogs, sheep and/or goats in each of the surveyed states. Information on feral swine control costs including hunting, trapping, use of fencing, or the use of repellents and the total net income for allowing the hunting of feral swine on their operations will also be collected. Without the survey, it would be impossible to measure the current level of feral swine damage to American agriculture and livestock.

Description of Respondents: Farms.

Number of Respondents: 12,000.

Frequency of Responses: Reporting: Annually.

Total Burden Hours: 9,280.

Charlene Parker,
Departmental Information Collection Clearance Officer.

[FR Doc. 2016-29502 Filed 12-8-16; 8:45 am]

BILLING CODE 3410-20-P